DEPARTMENT OF DEFENSE

Department of the Air Force

[Docket ID: USAF-2016-HQ-0006]

Proposed Collection; Comment Request

AGENCY: Air Force Reserve Officer Training Corps (AFROTC), Department of Defense/Department of the Air Force/Headquarters.

ACTION: Notice.

SUMMARY: In compliance with the Paperwork Reduction Act of 1995, the Department of the Air Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 27, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the AFROTC Scholarship Program, ATTN: Mr. Jack Sanders, 551 E. Maxwell Blvd., Maxwell AFB AL 36112 or call 334-953-2869.

SUPPLEMENTARY INFORMATION:

Title; Associated Form; and OMB Number: AFROTC Scholarship Program On-Line Application; OMB Control Number 0701-0101.

Needs and Uses: The AFROTC scholarship application is required for completion by high school seniors and recent graduates for the purpose of competing for an AFROTC 4 year scholarship. Respondents must complete and submit their application via the AFRTOC.com Web site. Submitted data will be evaluated by AFROTC scholarship selections boards to determine eligibility and to select individuals for the award of a college scholarship. The following is required to be provided by the applicant and maintained by AFROTC: Names, addresses, social security numbers, telephone numbers, transcripts, and resumes. The following documentation is provided as part of the application: Counselor Certification/signed copy of transcript (9th-11th grades only), extracurricular activity sheet, GPA and SAT and/or ACT scores, physical fitness assessment, and resume.

Affected Public: High school seniors and recent graduates who apply for an AFROTC scholarship.

Annual Burden Hours: 7,500.

Number of Respondents: 15,000.

Responses per Respondent: 1.

Annual Responses: 15,000.

Average Burden per Response: 30 minutes.

Frequency: Annually.

Dated: July 26, 2016.
Aaron Siegel,
Alternate OSD Federal Register Liaison Officer, Department of Defense.

[FR Doc. 2016-18042 Filed 7-28-16; 8:45 am]

BILLING CODE 5001-06-P